DEPARTMENT OF TRANSPORTATION

Office of the Secretary

Notice of Applications for Certificates of Public Convenience and Necessity And Foreign Air Carrier Permits Filed Under Subpart B (formerly Subpart Q) During The Week Ending October 21, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22750.

Date Filed: October 17, 2005.

Due Date for Answers, Conforming Applications, or Motion to Modify Scope: November 7, 2005.

Description: Application of Capital Cargo International Airlines, Inc. requesting a permanent certificate of public convenience and necessity to authorize it to engage in foreign scheduled air transportation of property and mail between Toledo, OH, on the one hand, and Saltillo, Guadalajara, and Monterrey, Mexico, on the other.

Renee V. Wright,
Program Manager, Docket Operations, Federal Register Liaison.

[FR Doc. 05-22022 Filed 11-3-05; 8:45 am]

BILLING CODE 4910-62-P